FEDERAL HOUSING FINANCE BOARD

Announcing an Open Meeting of the Board

TIME AND DATE: 10 A.M., Wednesday, September 26, 2001.

PLACE: Board Room, Second Floor, Federal Housing Finance Board, 1777 F Street, NW, Washington, DC 20006.

STATUS: The entire meeting will be open to the public.

MATTERS TO BE CONSIDERED DURING PORTIONS OPEN TO THE PUBLIC:

• Final Rule: Affordable Housing Program

• Final Rule: Amendment of Community Investment Cash Advance Programs Regulation

• Waiver of Compliance with Sections 932.8 and 932.9 of the Federal Housing Finance Board's Regulations (Unsecured Credit Limits and Minimum Liquidity Requirements) until January 28, 2002

• Solicitation of Public Comment: Multi-District Member Operations

CONTACT PERSON FOR MORE INFORMATION: Elaine L. Baker, Secretary to the Board, (202) 408-2837.

James L. Bothwell,
Managing Director.

[FR Doc. 01-23786 Filed 9-19-01; 1:29 pm]

BILLING CODE 6725-01-P